DEPARTMENT OF AGRICULTURE

Rural Housing Service

[Docket No.: RHS -23-MFH-0012]

60-Day Notice of Proposed Information Collection: Rural Rental Housing Program; OMB Control No.: 0575-0189

AGENCY: Rural Housing Service, USDA.

ACTION: Notice; request for comments.

SUMMARY: In accordance with the Paperwork Reduction Act of 1995 (44 U.S.C. Chapter 35, as amended), the United States Department of Agriculture (USDA) Rural Housing Service (RHS) announces its' intention to request a revision of a currently approved information collection and invites comments on this information collection.

DATES: Comments on this notice must be received by August 8, 2023 to be assured of consideration.

ADDRESSES: Comments may be submitted by the Federal eRulemaking Portal: Go to http://www.regulations.gov and, in the “Search Field” box, labeled “Search for dockets and documents on agency actions,” enter the following docket number: (RHS-23-MFH-0012), and click “Search.” To submit public comments, select the “Comment” button. Before inputting your comments, you may also review the “Commenter's Checklist” (optional). Insert your comments under the “Comment” title, click “Browse” to attach files (if applicable). Input your email address and select an identity category then click “Submit Comment.” Information on using Regulations.gov, including instructions for accessing documents, submitting comments, and viewing the docket after the close of the comment period, is available through the site's “FAQ” link.

FOR FURTHER INFORMATION CONTACT: MaryPat Daskal, Chief, Branch 1, Rural Development Innovation Center—Regulations Management Division, United States Department of Agriculture, 1400 Independence Avenue SW, South Building, Washington, DC 20250-1522. Telephone: (202) 720-7853. Email MaryPat.Daskla@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies the following information collection that the RHS is submitting to OMB as a revision to an existing collection with Agency adjustment.

Title: 7 CFR 3560, Rural Rental Housing Program.

OMB Control Number: 0575-0189.

Expiration Date of Approval: March 31, 2026.

Type of Request: Revision of a currently approved information collection.

Estimate of Burden: Public reporting for this collection of information is estimated to average .48 hours per response.

Respondents: Businesses or other for-profits, Not-for-profit institutions.

Estimated Number of Respondents: 589,500.

Estimated Number of Responses: 2,236,035.

Estimated Number of Responses per Respondent: 3.8.

Estimated Total Annual Burden on Respondents: 1,072,246 hours.

Abstract: The Rural Rental Housing program provides adequate, affordable, decent, safe, and sanitary rental units for very low-, low-, and moderate-income households in rural areas. The programs covered by this part are authorized by title V of the Housing Act of 1949 and are: (1) Section 515 Rural Rental Housing, which includes congregate housing, group homes, and Rural Cooperative Housing. The section 515 direct loan program provides financing to support the development of rental units in rural areas that need housing affordable to very low-, low-, and moderate-income households, and where this housing is unlikely to be provided through other means. (2) Sections 514 and 516 Farm Labor Housing loans and grants. Section 514/516 direct loan and grant programs provide funds to support the development of adequate, affordable housing for farm workers that is unlikely to be provided through other means. (3) Section 521 Rental Assistance. A project-based tenant rent subsidy which may be provided to Rural Rental Housing and Farm Labor Housing facilities.

The Rural Housing Service is revising this information collection to include a new form. The new form titled “Replacement Reserve Intercreditor Agreement” (ICA) is a supplement to the existing section 515 Subordination Agreement. The ICA form will be used between the section 515 RRH Borrower/Owner and the section 538 Lender to establish control and guidance on how the Reserve Account will be handled in a joint transaction. The ICA will add an additional 24 responses and 4 hours to the collection's total burden.

Information is completed by developers and potential borrowers seeking approval of rural rental housing loans with the assistance of professionals such as attorneys, architects, and contractors and the operation and management of the MFH properties in an affordable decent, safe and sanitary manner. The forms and information provide the basis for making determinations of eligibility and the need and feasibility of the proposed housing. The information provides the basis for determining that rents charged are appropriate, the housing is well-maintained, and proper priority is given to those tenants eligible for occupancy. Information is collected to assure compliance with the terms and conditions of loan, grant and/or subsidy agreements.

Comments are invited on:

(a) Whether the collection of information is necessary for the proper performance of the functions of the agency, including whether the information will have practical utility;

(b) the accuracy of the agency's estimate of the burden of the collection of information including the validity of the methodology and assumptions used;

(c) ways to enhance the quality, utility and clarity of the information to be collected; and (d) ways to minimize the burden of the collection of information on respondents, including through the use of appropriate automated, electronic, mechanical, or other technological collection techniques or other forms of information technology. All responses to this notice will be summarized and included in the request for OMB approval. All comments will become a matter of public record.

Copies of this information collection can be obtained from Kimble Brown, Rural Development Innovation Center—Regulations Management Division, at (202) 720-6780. Email: Kimble.Brown@usda.gov.

All responses to this notice will be summarized and included in the request for OMB approval. All comments will also become a matter of public record.

Joaquin Altoro,
Administrator, Rural Housing Service.

[FR Doc. 2023-12331 Filed 6-8-23; 8:45 am]

BILLING CODE 3410-XV-P